ENVIRONMENTAL PROTECTION AGENCY

40 CFR Part 147

[EPA-HQ-OW-2025-0157; FRL 12672-01-OW]

Texas Underground Injection Control (UIC) Program; Class VI Primacy

AGENCY: U.S. Environmental Protection Agency (EPA).

ACTION: Proposed rule.

SUMMARY: The U.S. Environmental Protection Agency (EPA or the Agency) has received a complete Underground Injection Control (UIC) program revision application from the State of Texas, requesting primary enforcement responsibility (primacy) for Class VI injection wells under Safe Drinking Water Act (SDWA) section 1422. The EPA's approval would allow the Railroad Commission of Texas (RRC) to issue and enforce compliance with UIC Class VI permits for injection wells used for geologic carbon sequestration. In this action, the EPA proposes to approve Texas' application to implement the UIC program for Class VI injection wells located within the State, except those on Indian lands.

DATES: Comments must be received on or before August 1, 2025. Public hearing: The EPA will hold one virtual public hearing during the comment period. Please refer to the SUPPLEMENTARY INFORMATION section for additional information on the public hearing.

ADDRESSES: You may send comments, identified by Docket ID No. EPA-HQ-OW-2025-0157 by any of the following methods:

• Federal eRulemaking Portal: https://www.regulations.gov/ (our preferred method). Follow the online instructions for submitting comments.

• Mail: U.S. Environmental Protection Agency, EPA Docket Center, Water Docket, Mail Code 28221T, 1200 Pennsylvania Avenue NW, Washington, DC 20460.

• Hand Delivery or Courier: EPA Docket Center, WJC West Building, Room 3334, 1301 Constitution Avenue NW, Washington, DC 20004. The Docket Center's hours of operations are 8:30 a.m. to 4:30 p.m., Monday through Friday (except Federal Holidays).

Instructions: All submissions received must include the Docket ID No. for this rulemaking. Comments received may be posted without change to https://www.regulations.gov/, including personal information provided. For detailed instructions on sending comments and additional information on the rulemaking process, see the “Public Participation” heading of the SUPPLEMENTARY INFORMATION section of this document.

FOR FURTHER INFORMATION CONTACT: Kyle Carey, Drinking Water Infrastructure Development Division, Office of Ground Water and Drinking Water (4606M), Environmental Protection Agency, 1200 Pennsylvania Ave. NW, Washington, DC 20460; telephone number: (202) 564-2322; or Lisa Pham, UIC/Groundwater Section, Water Division, Region 6, U.S. Environmental Protection Agency, 1201 Elm Street, Suite 500, Dallas, Texas 75270; telephone number: (214) 665-8326; fax: (214) 665-6490. Both can be reached by emailing UICprimacy@epa.gov.

SUPPLEMENTARY INFORMATION:

Table of Contents

I. Public Participation

A. Written Comments

B. Participation in Public Hearing

C. Public Participation Activities Conducted by Texas

II. Introduction

A. UIC Program and Primary Enforcement Authority (Primacy)

B. Class VI Wells Under the UIC Program

C. Texas UIC Program

III. Legal Authorities

IV. The EPA's Evaluation of Texas' Program Revision Application

A. Background

B. Summary of the EPA's Comprehensive Evaluation

V. The EPA's Proposed Action

A. Incorporation by Reference

VI. Statutory and Executive Orders Reviews

A. Executive Order 12866: Regulatory Planning and Review and Executive Order 14094: Modernizing Regulatory Review

B. Executive Order 14192: Unleashing Prosperity Through Deregulation

C. Paperwork Reduction Act (PRA)

D. Regulatory Flexibility Act (RFA)

E. Unfunded Mandates Reform Act (UMRA)

F. Executive Order 13132: Federalism

G. Executive Order 13175: Consultation and Coordination With Indian Tribal Governments

H. Executive Order 13045: Protection of Children From Environmental Health and Safety Risks

I. Executive Order 13211: Actions Concerning Regulations That Significantly Affect Energy Supply, Distribution, or Use

J. National Technology Transfer and Advancement Act (NTTAA)

VII. References

I. Public Participation

A. Written Comments

Submit your comments, identified by Docket ID No. EPA-HQ-OW-2025-0157, at https://www.regulations.gov (our preferred method), or the other methods identified in the ADDRESSES section. Once submitted, comments cannot be edited or removed from the docket. The EPA may publish any comment received to its public docket. Do not submit to the EPA's docket at https://www.regulations.gov any information you consider to be Confidential Business Information (CBI), Proprietary Business Information (PBI), or other information whose disclosure is restricted by statute. If you wish to submit CBI, contact Lisa Pham using the contact information available in the FOR FURTHER INFORMATION CONTACT section. Multimedia submissions (audio, video, etc.) must be accompanied by a written comment. The written comment is considered the official comment and should include discussion of all points you wish to make. The EPA will generally not consider comments or comment contents located outside of the primary submission (i.e., on the web, cloud, or other file sharing system). Please visit https://www.epa.gov/dockets/commenting-epa-dockets for additional submission methods; the full EPA public comment policy; information about CBI, PBI, or multimedia submissions; and general guidance on making effective comments.

B. Participation in Public Hearing

The EPA will hold one virtual public hearing during the public comment period. To register to speak at the virtual hearing, please use the online registration form available at https://www.epa.gov/uic/underground-injection-control-epa-region-6-ar-la-nm-ok-and-tx or contact us by email at UICprimacy@epa.gov. One week prior to the public hearing, the EPA will post a general agenda for the hearing that will list pre-registered speakers in approximate order at: https://www.epa.gov/uic/underground-injection-control-epa-region-6-ar-la-nm-ok-and-tx. Please refer to https://www.epa.gov/uic/underground-injection-control-epa-region-6-ar-la-nm-ok-and-tx for additional updates, including the date and time, related to this public hearing.

The EPA will make every effort to follow the schedule as closely as possible on the day of the hearing; however, please plan for the hearings to run either ahead of schedule or behind schedule. Each commenter will have three minutes to provide oral testimony. The EPA encourages commenters to provide the EPA with a copy of their oral testimony electronically by emailing it to UICprimacy@epa.gov. The EPA also recommends submitting the text of your oral comments as written comments to the rulemaking docket. The EPA will make every effort to accommodate all speakers who register, although preferences on speaking times may not be able to be fulfilled.

The EPA may ask clarifying questions during the oral presentations but will not respond to the presentations at that time. Written statements and supporting information submitted during the comment period will be considered with the same weight as oral comments and supporting information presented at the public hearing.

Updates on the virtual hearing logistics will be posted online at https://www.epa.gov/uic/underground-injection-control-epa-region-6-ar-la-nm-ok-and-tx. Please contact Kyle Carey at (202) 564-2322 or email UICprimacy@epa.gov with any questions about the virtual hearing. The EPA does not intend to publish a document in the Federal Register announcing updates related to the public hearing. If you require the services of an interpreter or special accommodations such as audio description, please pre-register for the hearing at https://www.epa.gov/uic/underground-injection-control-epa-region-6-ar-la-nm-ok-and-tx and describe your needs at least one week prior to the public hearing date. The EPA may not be able to arrange accommodations without advance notice.

C. Public Participation Activities Conducted by Texas

The RRC proposed regulations for the geologic storage of carbon dioxide (CO2) in a notice and request for comment published on its website on September 29, 2010, and in the Texas Register on October 15, 2010. On December 17, 2010, the RRC responded to comments and adopted final regulations (16 Tex. Admin. Code §§ 5.101-5.308). On March 20, 2012, the RRC proposed amendments to its CO2 geologic storage regulations. The RRC provided notice of these proposed amendments through the Texas Register on April 6, 2012, and held a 31-day comment period closing on May 7, 2012. The RRC issued a response to comments and notice of the adoption of the final amendments to the regulations in the Texas Register on June 29, 2012.

The RRC proposed additional amendments to its CO2 geologic storage regulations in 2022 as part of its effort to develop and submit a program revision application to receive primacy for the Class VI UIC program. The RRC published notice of the proposed amendments and a 31-day opportunity for public comment in the Texas Register on May 20, 2022. The RRC held a public hearing on the proposed regulatory amendments via webcast on June 14, 2022. The RRC received 17 comments on the proposed amendments, five from industry associations (the Greater Houston Partnership, NARO-Texas, the Permian Basin Petroleum Association, the Texas Industry Project, and the Texas Oil and Gas Association), ten from companies or organizations, two from individuals, and one comment submitted on behalf of 37 Texas-based organizations and individuals. Comments on the regulations covered technical, administrative, and procedural requirements, some of which resulted in changes to the proposed amendments. Most commenters expressed support for Texas' planned program revision application requesting primacy for the Class VI program. However, one commenter requested Texas withdraw its anticipated application based on the commenter's criticisms of the RRC's oversight and enforcement of the programs it currently implements. The RRC issued a response to comments and notice of the adoption of the amendments in the Texas Register on September 16, 2022.

In response to preliminary feedback from the EPA (as part of the EPA's standard primacy application review process), the RRC proposed additional amendments to its CO2 geologic storage regulations. The RRC provided notice of the proposed amendments and an opportunity for public comment through July 31, 2023, on the RRC website on June 15, 2023, and in the Texas Register on June 30, 2023. The RRC received 30 comments on the proposed amendments, six from industry associations (Greater Houston Partnership, Reliable Energy Alliance, Texas Chapter of National Association of Royalty Owners, Texas Chemical Council, Texas Industry Project, and the Texas Oil and Gas Association), two from organizations (Environmental Defense Fund and Commission Shift), 21 from individuals and one on behalf of 31 Texas-based organizations and individuals. Some of the comments expressed support for Texas' program revision application requesting primacy for the Class VI program. Other comments expressed concern about the process of and potential environmental and public health impacts from the injection and geologic storage of CO2. Some commentors requested Texas withdraw its application for Class VI primacy. In addition, the RRC received comments on the proposed amendments to the State regulations regarding the technical, administrative, and procedural requirements, some of which resulted in changes to the proposed amendments. The RRC issued a response to comments and notice of the adoption of the amendments to the regulations in the Texas Register on September 8, 2023.

Documentation of Texas' public participation activities, including comments received and responses by the RRC, can be found in the EPA's Docket ID No. EPA-HQ-OW-2025-0157.

II. Introduction

A. UIC Program and Primary Enforcement Authority (Primacy)

The SDWA protects public health by regulating the nation's public drinking water supply, including both surface and groundwater sources. The SDWA requires the EPA to develop minimum requirements for effective State and Tribal UIC programs to prevent underground injection of fluids (such as water, wastewater, brines from oil and gas production, and carbon dioxide) from endangering underground sources of drinking water (USDWs). In general, USDWs are aquifers or parts of aquifers that supply a public water system or contain enough groundwater to supply a public water system. See 40 CFR 144.3 (defining USDW).

The EPA's UIC program regulates various aspects of an injection well project. These include technical aspects throughout the lifetime of the project from site characterization, construction, operation, and testing and monitoring through site closure, as well as permitting, site inspections, and reporting to ensure well owners and operators comply with UIC permits and regulations.

SDWA section 1421 directs the EPA to establish requirements that States, territories, and federally recognized Tribes (hereafter referred to as applicants) must meet to be granted primary enforcement responsibility or “primacy” for implementing a UIC program, including a Class VI program. 42 U.S.C. 300h. An applicant seeking primacy under SDWA section 1422 for a Class VI program must demonstrate to the EPA that the applicant's Class VI program meets the Federal requirements promulgated by EPA pursuant to section 1421 for protecting USDWs. 42 U.S.C. 300h-300h-1. An applicant must demonstrate, among other things, jurisdiction over underground injection and the administrative, civil, and criminal enforcement authorities required by the EPA's implementing regulations. See 40 CFR part 145, subpart B. After the EPA approves UIC primacy for a State, the State's UIC program may be revised with EPA approval. See 40 CFR 145.32. When a State that already has primacy under SDWA section 1422 seeks to add Class VI primacy to its existing program, the State's primacy application and EPA review process takes the form of a program revision.

The EPA comprehensively evaluates each primacy application in accordance with SDWA section 1422 to determine whether the State has satisfactorily demonstrated that it has adopted and will implement a UIC program that meets applicable regulatory requirements. The EPA conducts a similar comprehensive evaluation for proposed program revisions, including a program revision to add Class VI primacy.

B. Class VI Wells Under the UIC Program

Class VI wells are used to inject carbon dioxide into deep rock formations for the purpose of long-term underground storage, also known as geologic sequestration. The geologic sequestration of carbon dioxide in UIC Class VI wells is used as part of carbon capture and storage for carbon dioxide emissions from industrial sources. Class VI injection wells are regulated under a SDWA permitting framework that protects USDWs.

The UIC Class VI program provides multiple safeguards that work together to protect USDWs. Owners or operators that wish to inject carbon dioxide underground for the purpose of geologic sequestration must demonstrate that their proposed injection well and injection activities will meet all regulatory requirements and receive a Class VI permit for each well. The UIC Class VI program requires applicants to meet technical, financial, and managerial requirements to obtain a Class VI permit, including:

• Site characterization to ensure the geology in the project area will contain the carbon dioxide within the zone where it is authorized to be injected.

• Modeling to delineate the predicted area influenced by injection activities through the lifetime of the project.

• Evaluation of the delineated area to ensure all potential pathways for fluid movement have been identified and addressed through corrective action.

• Well construction requirements that ensure the Class VI injection well will not leak carbon dioxide.

• Testing and monitoring throughout the life of the project, including after carbon dioxide injection has ended. Requirements include, for example, testing to ensure physical integrity of the well, monitoring for seismic activity near the injection site, monitoring of injection pressure and flow, chemical analysis of the carbon dioxide stream that is being injected, and monitoring the extent of the injected carbon dioxide plume and the surrounding area (e.g., ground water) to ensure the carbon dioxide is contained as predicted.

• Operating requirements (for example, injection pressure limitations) to ensure the injection activity will not endanger USDWs.

• Financial assurance mechanisms sufficient to cover the costs for all phases of the geologic sequestration project including the post-injection site care period and until site closure has been approved by the permitting authority.

• Emergency and remedial response plans.

• Reporting of all testing and monitoring results to the permitting authority to ensure the well is operating in compliance with all permit requirements.

The permitting authority ensures that these protective requirements are included in each Class VI permit. A draft of each Class VI permit is made available to the public for comment before the decision is made whether to issue a final permit.

C. Texas UIC Program

The State of Texas received primacy for Class I, III, IV, and V injection wells under SDWA section 1422 on January 6, 1982 (47 FR 618) and for Class II injection wells under SDWA section 1425 on April 23, 1982 (47 FR 17488). On February 20, 2025, Texas applied to the EPA under SDWA section 1422 for primacy for Class VI injection wells located within the State, except those located on Indian lands.

III. Legal Authorities

This regulation is proposed under authority of SDWA sections 1422 and 1450, 42 U.S.C. 300h-1 and 300j-9.

SDWA section 1421 requires the EPA Administrator to promulgate Federal requirements for effective State UIC programs to prevent underground injection activities that endanger USDWs. 42 U.S.C. 300h. SDWA section 1422 requires States seeking primacy to demonstrate to the EPA that the State has adopted (after notice and public hearing) and will implement a UIC program which meets the requirements that EPA promulgated under section 1421. Section 1422 also contemplates States seeking EPA approval for revisions to existing State UIC programs.

For States and Tribes seeking EPA approval for UIC programs or revisions to existing State and Tribal UIC programs under SDWA section 1422, the EPA has promulgated regulations setting forth the applicable procedures and substantive requirements. The regulations in 40 CFR part 144 outline general program requirements that each State must meet to obtain primacy. The regulations in 40 CFR part 145 specify the procedures the EPA follows when considering applications for primacy, applications for program revisions, and withdrawing State programs, and outlines the elements and provisions that a State must include in its application for primacy or for a program revision. See, e.g., 40 CFR 145.32 (procedures for revision of State programs). The regulations in 40 CFR part 145 also include permitting requirements for State UIC programs (by reference to certain provisions of 40 CFR parts 124 and 144), compliance evaluation programs, enforcement authority, and sharing of information between the EPA and the State. The regulations in 40 CFR part 146 contain the technical criteria and standards applicable to each well class, including Class VI wells.

IV. The EPA's Evaluation of Texas' Program Revision Application

A. Background

On February 20, 2025, Texas submitted to the EPA a program revision application to add Class VI wells to the State's SDWA section 1422 UIC program. The UIC program revision application from Texas includes a description of the State's proposed UIC Class VI program, copies of all applicable rules and forms, a statement of legal authority, a summary of Texas' public participation activities, and an addendum to the existing Memorandum of Agreement (MOA) between Texas and the EPA's Region 6 office. The EPA reviewed the application for completeness and performed a technical evaluation of the application materials.

B. Summary of the EPA's Comprehensive Evaluation

The EPA evaluates applications from primacy authorities to revise their UIC programs in accordance with SDWA section 1422 and 40 CFR 145.32 to determine whether an applicant has satisfactorily demonstrated that its proposed program revision meets EPA regulatory requirements and the SDWA. The EPA conducted a comprehensive technical and legal evaluation of Texas' program revision application to determine whether the State's proposed UIC Class VI program—including statutes and regulations, program description, Attorney General statement, and MOA addendum—meets the requirements of SDWA section 1422 and EPA regulations. Upon review, the EPA determined that Texas' program revision application demonstrates that the State has adopted and will implement, a Class VI UIC program that meets the requirements of 40 CFR parts 144, 145, and 146.

The EPA evaluated Texas' UIC Class VI program description for consistency with 40 CFR 145.23, which specifies all the information that must be included as part of the program description. The EPA's evaluation of the UIC Class VI program description included reviewing the scope, coverage, processes, and organizational structure of the proposed Class VI program. The EPA evaluated Texas' permitting, administrative, and judicial review procedures relevant to Class VI permits, as well as the State's permit application, reporting, and manifest forms for Class VI permits. The EPA also reviewed the State's UIC compliance evaluation program and enforcement authorities and the State's demonstration that its UIC Class VI program will have adequate in-house staff or access to contractor support for technical areas including site characterization, modeling, well construction and testing, financial responsibility, and regulatory and risk analysis.

The EPA evaluated Texas' Class VI related Attorney General's statement for consistency with 40 CFR 145.24. In an Attorney General's statement, the State's top legal officer affirms that applicable State law (e.g., statutes, regulations, and judicial decisions) provide adequate authority to administer the Class VI UIC program as described in the program description and consistent with the EPA's regulatory requirements for UIC programs. The EPA confirmed that the Texas Attorney General's statement related to Class VI wells certifies that the State environmental audit privilege will not affect the ability of Texas to meet the enforcement and information gathering requirements under the SDWA.

The EPA determined that the Class VI MOA addendum meets the Federal requirements at 40 CFR 145.25 for primacy MOAs. The MOA is the central agreement setting the provisions and arrangements between the State and the EPA concerning the administration and enforcement of the State UIC program. The EPA's evaluation of the Class VI MOA addendum included ensuring that the MOA addendum contained the appropriate provisions pertaining to coordination, permitting, compliance monitoring, enforcement, and EPA oversight. For example, the Class VI MOA addendum specifies that the RRC and the EPA agree to maintain a high level of cooperation and coordination to assure successful and effective administration of the UIC Class VI Program.

Texas has demonstrated that it meets all UIC permit requirements found in 40 CFR 145.11 for Class VI permits. Texas' UIC Class VI permitting provisions and technical criteria and standards meet the Federal requirements in 40 CFR parts 124 and 144 through 146. The State has incorporated necessary procedures, pursuant to 40 CFR 145.12, to support a robust UIC Class VI compliance evaluation program. Additionally, Texas has available the necessary civil and criminal enforcement authorities pursuant to 40 CFR 145.13. Texas' UIC Class VI regulations regarding permitting, inspection, operation, monitoring, reporting, and recordkeeping meet Federal requirements found in 40 CFR parts 145 and 146.

As a result of this comprehensive review, the EPA is proposing to approve Texas' program revision application because the EPA has determined that the application meets all applicable requirements for Class VI primacy approval under SDWA section 1422 and because the State has demonstrated that it is prepared to implement a UIC program in a manner consistent with the SDWA and all applicable UIC regulations.

V. The EPA's Proposed Action

A. Incorporation by Reference

The EPA is proposing to approve a revision to the State of Texas UIC program to give Texas primacy over Class VI injection wells in the State, except for those located on Indian lands. Texas' statutes and regulations that are proposed to be incorporated by reference into 40 CFR 147.2200 are publicly available in the EPA's Docket No. EPA-HQ-OW-2025-0157. If finalized, this action would amend 40 CFR 147.2200 and incorporate by reference Texas' EPA-approved State statutes and regulations that contain UIC Class VI standards, requirements, and procedures applicable to Class VI owners or operators within the State. Any such provisions incorporated by reference, as well as all permit conditions or permit denials issued pursuant to such provisions, are enforceable by the EPA pursuant to SDWA section 1423 and 40 CFR 147.1(e). The EPA will continue to administer the UIC program for Class I, II, III, IV, V, and VI injection wells on Indian lands. 30 CFR 147.2205. No Tribe currently has UIC primacy for Indian lands within Texas.

The EPA proposes to incorporate by reference the Texas statutes and regulations that contain standards, requirements, and procedures applicable to owners or operators of Class VI wells as a compilation titled “Texas SDWA § 1422 Underground Injection Control Program Statutes and Regulations for Well Class VI Incorporated by Reference,” dated May 1, 2025. This compilation would be incorporated by reference into 40 CFR 147.2200 and is available at https://www.regulations.gov in the docket for this proposed rule. The EPA also proposes to codify a table in 40 CFR 147.2200 listing the EPA-approved Texas statutes and regulations that contain standards, requirements, and procedures applicable to owners or operators of Class VI wells that the EPA would incorporate by reference. Any provision of these statutes and regulations that does not contain standards, requirements, or procedures applicable to owners or operators of Class VI wells are not incorporated by reference.

Upon approval, the EPA would oversee Texas' administration of its Class VI program in addition to continuing to oversee Texas' administration of its existing UIC programs for Class I, II, III, IV, and V wells. The EPA will continue to require quarterly reports on instances of permittee non-compliance and annual UIC performance reports pursuant to 40 CFR 144.8. The Class VI MOA addendum between the EPA and Texas, signed by the EPA Regional Administrator on April 29, 2025, articulates that the EPA will oversee the State's administration of the UIC Class VI program on a continuing basis to assure that such administration is consistent with the program MOAs, UIC grant agreements, State and Federal law, and any separate working agreements which are entered into between the RRC Director and the Regional Administrator as necessary for the administration of the UIC program.

VI. Statutory and Executive Orders Reviews

Additional information about these statutes and Executive orders can be found at: https://www.epa.gov/laws-regulations/laws-and-executive-orders.

A. Executive Order 12866: Regulatory Planning and Review and Executive Order 14094: Modernizing Regulatory Review

This action is exempt from review under Executive Order 12866 because the Office of Management and Budget (OMB) has exempted, as a category, the approval of State UIC programs. This exemption also applies to EPA approvals of revisions to existing State UIC programs.

B. Executive Order 14192: Unleashing Prosperity Through Deregulation

Executive Order 14192 does not apply because actions that approve State UIC programs are exempted from review under Executive Order 12866.

C. Paperwork Reduction Act (PRA)

This action will not impose an information collection burden under the PRA. OMB has previously approved the information collection activities contained in the existing regulations and has assigned OMB control number 2040-0042. Reporting or recordkeeping requirements will be based on Texas' Class VI UIC Regulations, and the State of Texas is not subject to the PRA.

D. Regulatory Flexibility Act (RFA)

I certify that this action will not have a significant economic impact on a substantial number of small entities under the RFA. This action will not impose any burdens on small entities as this action transfers regulatory authority from the EPA to a State program with substantially the same requirements.

E. Unfunded Mandates Reform Act (UMRA)

This action does not contain an unfunded mandate as described in UMRA, 2 U.S.C. 1531-1538, and does not significantly or uniquely affect small governments. The action imposes no enforceable duty on any State, local, or Tribal governments or the private sector. The EPA's proposed approval of Texas' Class VI program will not constitute a Federal mandate because there is no requirement that a state establish UIC regulatory programs and because the program is a State, rather than a Federal program.

F. Executive Order 13132: Federalism

This action does not have Federalism implications. It will not have substantial direct effects on the states, on the relationship between the National Government and the states, or on the distribution of power and responsibilities among the various levels of government.

G. Executive Order 13175: Consultation and Coordination With Indian Tribal Governments

This action does not have Tribal implications as specified in Executive Order 13175. This action contains no Federal mandates for Tribal governments and does not impose any enforceable duties on Tribal governments. Thus, Executive Order 13175 does not apply to this proposed action.

H. Executive Order 13045: Protection of Children From Environmental Health and Safety Risks

The EPA interprets Executive Order 13045 as applying only to those regulatory actions that concern environmental health or safety risks that the EPA has reason to believe may disproportionately affect children, per the definition of “covered regulatory action” in section 2-202 of the Executive Order. This action is not subject to Executive Order 13045 because it approves a State program.

I. Executive Order 13211: Actions Concerning Regulations That Significantly Affect Energy Supply, Distribution, or Use

This action is not subject to Executive Order 13211, because it is not a significant regulatory action under Executive Order 12866.

J. National Technology Transfer and Advancement Act (NTTAA)

This rulemaking does not involve technical standards.

VII. References

Attorney General's Statement “State of Texas Office of the Attorney General Statement of Legal Authority to Administer the State Underground Injection Control Program for Class VI Wells”, signed by the Attorney General of Texas on November 11, 2022.

Class VI Underground Injection Control Program Description “State of Texas Class VI Underground Injection Control 1422 Program Description”, Railroad Commission of Texas, February 20, 2025.

Letter from the Governor of Texas to the Regional Administrator, EPA Region 6, signed on December 12, 2022.

The Memorandum of Agreement Addendum 2 Between the Railroad Commission of Texas and The United States Environmental Protection Agency Region 6 for the Class VI UIC Program signed by the EPA Regional Administrator on April 29, 2025.

State of Texas Railroad Commission of Texas Oil and Gas Division Class VI UIC Primacy Application, “Relevant State Statutes and Regulations”, February 20, 2025

State of Texas Railroad Commission of Texas Oil and Gas Division Class VI UIC Primacy Application, “Public Participation Documentation”, February 20, 2025.

U.S. Environmental Protection Agency. Proposed “Texas SDWA § 1422 Underground Injection Control Program Statutes and Regulations for Well Class VI to be Incorporated by Reference.” May 1, 2025. Office of Water.

List of Subjects in 40 CFR Part 147

Environmental protection, Incorporation by reference, Indian lands, Intergovernmental relations, Reporting and recordkeeping requirements, Water supply.

Lee Zeldin,
Administrator.

For the reasons set forth in the preamble, the EPA proposes to amend 40 CFR part 147 as follows:

PART 147—STATE, TRIBAL, AND EPA-ADMINISTERED UNDERGROUND INJECTION CONTROL PROGRAMS

1. The authority citation for part 147 continues to read as follows:

Authority: 42 U.S.C. 300f et seq.; and 42 U.S.C. 6901 et seq.

2. Amend § 147.2200 by:

a. Revising the section heading, the introductory text, and paragraph (a); and

c. Adding paragraphs (a)(3), (c)(3) and (4), (d)(3), and (e)(3).

The revisions and additions read as follows:

§ 147.2200 State-administered program—Class I, III, IV, V and VI Wells.

The UIC program for Class I, III, IV, and V wells in the State of Texas, except for those wells on Indian lands, and except for Class III brine mining wells and certain Class V wells, is the program administered by the Texas Commission on Environmental Quality approved by EPA pursuant to section 1422 of the Safe Drinking Water Act (SDWA). Notice of the original approval for Class I, III, IV, and V wells was published in the Federal Register on January 6, 1982, and became effective February 7, 1982. Class V geothermal wells and wells for the in-situ combustion of coal are regulated by the Railroad Commission of Texas under a separate UIC program approved by EPA pursuant to section 1422 of SDWA and published in the Federal Register and effective on April 23, 1982. A subsequent program revision application for Class I, III, IV, and V wells, not including Class III brine mining wells, was approved by the EPA pursuant to section 1422 of SDWA. Notice of this approval was published in the Federal Register on February 25, 2004, with an effective date of March 26, 2004. The UIC program for Class III brine mining wells in the State of Texas, except for those wells on Indian lands, is the program administered by the Railroad Commission of Texas. A program revision application for Class III brine mining wells was submitted by Texas and approved by EPA pursuant to section 1422 of SDWA. Notice of that approval was published in the Federal Register on February 26, 2004, effective March 29, 2004. The UIC Program for Class VI wells in the State of Texas, except those located on Indian lands, is the program administered by the Railroad Commission of Texas, approved by the EPA pursuant to section 1422 of the SDWA. The effective date of this program is [DATE 30 DAYS AFTER DATE OF PUBLICATION OF THE FINAL RULE IN FEDERAL REGISTER]. The UIC program for Class I, III, IV, V, and VI wells in the State of Texas, except those located on Indian lands, consists of the following elements, as submitted to EPA in the State's program application and program revision applications.

(a) Incorporation by reference. The requirements set forth in the State statutes and regulations cited in this paragraph are hereby incorporated by reference and made part of the applicable UIC program under SDWA for the State of Texas. This incorporation by reference was approved by the Director of the Federal Register in accordance with 5 U.S.C. 552(a) and 1 CFR part 51. Copies of the State of Texas' provisions that are incorporated by reference may be inspected at the U.S. Environmental Protection Agency, Water Docket, EPA Docket Center (EPA/DC), EPA WJC West, Room 3334, 1301 Constitution Ave. NW, Washington, DC 20004, or the Region VI, Library, U. S. Environmental Protection Agency, 1201 Elm Street, Suite 500, Dallas, Texas 75270. If you wish to obtain this material from the EPA Docket Center, call (202) 566-2426. Copies of this material also may be inspected at the National Archives and Records Administration (NARA). For information on the availability of this material at NARA, call (202) 741-6030, or go to wwww.archives.gov/federal-register/cfr/ibr-locations.

* * * * *

(3) Texas SDWA Sec. 1422 Underground Injection Control Program Statutes and Regulations for Well Class VI Incorporated by Reference,” dated May 1, 2025.

Table 1 to Paragraph (a)(3)
State citation | Title/subject | State effective date | EPA approval date
Texas Administrative Code, Title 16, Part 1, Chapter 5 | Carbon Dioxide (CO2) | September 11, 2023 | [DATE OF PUBLICATION OF THE FINAL RULE IN FEDERAL REGISTER].
Texas Water Code, Title 2, Subtitle D, Chapter 27 | Injection Wells | June 9, 2021 | [DATE OF PUBLICATION OF THE FINAL RULE IN FEDERAL REGISTER].

* * * * *

(c) * * *

(3) Class VI Wells. The Memorandum of Agreement Addendum 2 Between The Railroad Commission of Texas and The United States Environmental Protection Agency Region 6 for the Class VI UIC Program signed by the EPA Regional Administrator on April 29, 2025.

(4) Request for program approval. Letter from the Governor of Texas to the Regional Administrator, EPA Region 6, signed on December 12, 2022.

(d) * * *

(3) Class VI Wells. Attorney General's Statement, “State of Texas office of the Attorney General Statement of Legal Authority to Administer the State Underground Injection Control Program for Class VI Wells”, signed by the Attorney General of Texas on November 11, 2022.

(e) * * *

(3) Class VI Wells. The Program Description, “State of Texas Class VI Underground Injection Control 1422 Program Description Railroad Commission of Texas”.

[FR Doc. 2025-10957 Filed 6-16-25; 8:45 am]

BILLING CODE 6560-50-P